DEPARTMENT OF AGRICULTURE

Animal and Plant Health Inspection Service

9 CFR Parts 93, 94, and 98

[Docket No. APHIS-2009-0093]

Importation of Live Swine, Swine Semen, Pork, and Pork Products From Liechtenstein and Switzerland

AGENCY: Animal and Plant Health Inspection Service, USDA.

ACTION: Proposed rule.

SUMMARY: We are proposing to amend the regulations governing the importation of animals and animal products to add Liechtenstein and Switzerland to the region of Europe that we recognize as low risk for classical swine fever (CSF). We are also proposing to add Liechtenstein to the list of regions we consider free from swine vesicular disease (SVD) and to the list of regions considered free from foot-and-mouth disease (FMD) and rinderpest. These proposed actions would relieve some restrictions on the importation into the United States of certain animals and animal products from those regions, while continuing to protect against the introduction of CSF, SVD, FMD, and rinderpest into the United States.

DATES: We will consider all comments that we receive on or before July 18, 2011.

ADDRESSES: You may submit comments by either of the following methods:

• Federal eRulemaking Portal: Go to http://www.regulations.gov/fdmspublic/component/main?main=DocketDetail&d=APHIS-2009-0093 to submit or view comments and to view supporting and related materials available electronically.

• Postal Mail/Commercial Delivery: Please send one copy of your comment to Docket No. APHIS-2009-0093, Regulatory Analysis and Development, PPD, APHIS, Station 3A-03.8, 4700 River Road, Unit 118, Riverdale, MD 20737-1238. Please state that your comment refers to Docket No. APHIS-2009-0093.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Kelly Rhodes, Regionalization Evaluation Services, Import, Sanitary Trade Issues Team, National Center for Import and Export, VS, APHIS, 4700 River Road, Unit 38, Riverdale, MD 20737; (301) 734-4356.

SUPPLEMENTARY INFORMATION:

Background

The Animal and Plant Health Inspection Service (APHIS) of the United States Department of Agriculture (USDA) regulates the importation of animals and animal products into the United States to guard against the introduction of animal diseases not currently present or prevalent in this country. The regulations in 9 CFR parts 93, 94, and 98 (referred to below as the regulations) prohibit or restrict the importation of specified animals and animal products to prevent the introduction into the United States of various animal diseases, including classical swine fever (CSF), swine vesicular disease (SVD), foot-and-mouth disease (FMD), and rinderpest. These are dangerous and destructive communicable diseases of ruminants and swine.

Sections 94.9 and 94.10 of the regulations list regions of the world that are declared free of or low-risk for CSF. Switzerland and Liechtenstein are not currently listed in these sections. However, the surrounding APHIS-defined European Union (EU) CSF region, which is composed of the 19 Member States of the EU that we currently recognize as a single region with regard to CSF, is listed as low-risk for CSF. Sections 94.24 and 98.38 specify restrictions necessary to mitigate the risk of introducing CSF into the United States via the importation of pork, pork products, live swine, and swine semen from that region.

Section 94.12 of the regulations lists regions that are declared free of SVD. Section 94.13 of the regulations lists regions that have been determined to be free of SVD, but that are subject to certain restrictions because of their proximity to or trading relationships with SVD-affected regions. Switzerland is currently listed in these sections, but Liechtenstein is not.

Section 94.1 of the regulations lists regions of the world that are declared free of rinderpest or free of both rinderpest and FMD. Section 94.11 of the regulations lists regions that have been determined to be free of rinderpest and FMD, but that are subject to certain restrictions because of their proximity to or trading relationships with rinderpest- or FMD-affected regions. Switzerland is currently listed in these sections, but Liechtenstein is not.

Switzerland and Liechtenstein entered into a customs union treaty that took effect in 1924. Under the treaty, Switzerland formulates trade policy measures affecting imports and the agricultural policy of the customs union. In January 2009, Switzerland, Liechtenstein, and the European Commission (EC) fully implemented an agreement to eliminate barriers to trade in agricultural products, including live animals and animal products. As a result, trade between these entities now occurs under the same conditions as trade between EU Member States.

Risk Evaluation

In 2006, the Government of Switzerland requested that APHIS evaluate the animal health status of Switzerland and Liechtenstein with respect to CSF and provided information in support of this request in accordance with 9 CFR part 92, “Importation of Animals and Animal Products; Procedures for Requesting Recognition of Regions.” Under § 92.2, each request for approval to export animals or animal products to the United States from a foreign country must include information concerning the authority, organization, and infrastructure of the veterinary services in the region; the status of the region and adjacent regions with regard to the disease(s) under evaluation; the degree to which the region is separated from regions of higher risk; and livestock demographics and marketing practices. The foreign region must also provide information regarding vaccination against the disease(s) of interest (if practiced); the extent of an active disease control program; movement controls and biosecurity for movement from higher risk regions; disease surveillance; diagnostic laboratory capabilities; and emergency response capacity.

In response to Switzerland's request, APHIS evaluated the risk of introducing CSF virus into the United States via the importation of swine and swine products from Switzerland and Liechtenstein. This evaluation was completed in August of 2009 and may be viewed on the Regulations.gov Web site or in our reading room. (Instructions for accessing Regulations.gov and information on the location and hours of the reading room are provided under the heading ADDRESSES at the beginning of this proposed rule.) The evaluation, as well as the information evaluated, may also be viewed at http://www.aphis.usda.gov/import_export/animals/reg_request.shtml by following the link for “Information previously submitted by Regions requesting export approval and their supporting documentation.”

Our evaluation found no evidence that CSF currently exists in Switzerland or Liechtenstein and demonstrated no immediate and significant risks associated with this disease. Nonetheless, there is a potential for introduction of CSF virus into Switzerland and/or Liechtenstein. This is primarily because Switzerland and Liechtenstein import substantial quantities of pork and pork products from Germany and France, without prohibiting sourcing from restricted areas established due to CSF. In addition, most road and rail traffic from EU Member States into Switzerland is not subject to customs inspection. It is therefore easy for travelers to enter with commodities for personal consumption that are derived from domestic swine or wild boar, from both restricted and nonrestricted areas of EU Member States.

Switzerland and Liechtenstein have adopted EC regulations and controls regarding animal health and abolished border veterinary controls, thereby facilitating free trade in live animals and animal products. These two countries are situated in the middle of a region that APHIS recognizes as low risk for CSF, currently referred to in the regulations as the APHIS-defined EU CSF region. APHIS considers the EU Member States comprising this region to have the same low level of risk due to harmonized EC legislation and free trade on the internal common market, factors that now apply to Switzerland and Liechtenstein as well.

The APHIS-defined EU CSF region is subject to the import conditions specified in § 94.24 for breeding swine, pork, and pork products, and § 98.38 for swine semen. Section 94.24 prohibits sourcing of live swine, pork, and pork products for export to the United States from areas of the EU that are restricted due to CSF in wild boar or domestic swine. The regulations also prohibit commingling of live swine, pork, and pork products for export with such commodities from restricted areas. Section 98.38 prohibits sourcing of swine semen for export to the United States from areas of the EU that are restricted due to CSF in wild boar or domestic swine, as well as commingling of donor boars with live swine from restricted regions.

The prohibition on sourcing from areas of the APHIS-defined EU CSF region that are restricted due to CSF in domestic swine extends until at least 6 months after cleaning and disinfection of the last affected premises. This addresses the possibility of reoccurrence of CSF in domestic swine if restrictions are removed after 30 days, as allowed by EC regulations. The regulations also address the risk associated with potential commingling of pork and pork products for export to the United States with such commodities sourced from restricted areas within the APHIS-defined EU CSF region.

In the risk evaluation, APHIS concludes that the risk profile for the common veterinary area formed by Switzerland and Liechtenstein is similar to that of the APHIS-defined EU CSF region. Applying the provisions of §§ 94.24 and 98.38 to Switzerland and Liechtenstein would address the risk issues discussed above and result in a level of risk that is equivalent to, or less than, that portion of the EU authorized to export breeding swine, swine semen, and pork and pork products to the United States.

Summary of Proposed Changes

Based on the finding of the risk evaluation, we are proposing to add Switzerland and Liechtenstein to the region of Europe (currently referred to in the regulations as the APHIS-defined EU CSF region) that we currently recognize as a low-risk region for CSF and from which breeding swine, swine semen, and pork and pork products may be imported into the United States under certain conditions. In order to add Switzerland and Liechtenstein to this region and provide flexibility in the event that other non-EU countries in Europe may be added to this region in the future, we would amend the regulations to refer to this region as the “APHIS-defined European CSF region.” These proposed actions would relieve some restrictions on the importation into the United States of certain animals and animal products from Switzerland and Liechtenstein, while continuing to protect against the introduction of CSF into the United States.

In a related matter, certain conditions in the regulations for importation of breeding swine, swine semen, and pork and pork products from the APHIS-defined EU CSF region refer to the roles and responsibilities of the competent veterinary authority of EU Member States within the region. However, since neither Switzerland nor Liechtenstein are Member States of the EU, we are proposing to remove such references from the regulations and instead simply refer to the competent veterinary authority.

Finally, as noted above, the regulations currently list Switzerland, but not Liechtenstein, as free of SVD, FMD, and rinderpest, subject to the restrictions described in §§ 94.11 and 94.13 of the regulations. FMD was last detected in Liechtenstein in 1964. Neither SVD nor rinderpest has ever been reported in Liechtenstein. Switzerland and Liechtenstein formed a common veterinary area with an integrated veterinary system in 1924 and have effectively been a single region with regard to veterinary controls on animal health since that time. For these reasons, we are also proposing to add Liechtenstein to the list of regions recognized as free of SVD, and to the list of SVD-free regions whose exports of pork and pork products to the United States are subject to certain restrictions to prevent the introduction of SVD into this country. In addition, we are proposing to add Liechtenstein to the list of regions recognized as free of FMD and rinderpest and also to the list of FMD- and rinderpest-free regions whose exports of ruminant and swine meat and products to the United States are subject to certain restrictions to prevent the introduction of FMD and rinderpest into this country.

These proposed actions would ensure that Liechtenstein is afforded the same status as Switzerland with regard to these diseases, while continuing to protect against the introduction of CSF, SVD, FMD, and rinderpest into the United States.

Executive Order 12866 and Regulatory Flexibility Act

This proposed rule is subject to Executive Order 12866. However, for this action, the Office of Management and Budget has waived its review under Executive Order 12866.

In accordance with the Regulatory Flexibility Act, we have analyzed the potential economic effects of this action on small entities.

Our analysis identifies U.S. swine producers as the small entities potentially affected by the provisions of the rule, but also notes that Switzerland and Liechtenstein have, historically, exported a minimal amount of swine or swine products. Copies of the full analysis are available by contacting the person listed under FOR FURTHER INFORMATION CONTACT or on the Regulations.gov Web site (see ADDRESSES above for instructions for accessing Regulations.gov)

Under these circumstances, the Administrator of the Animal and Plant Health Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects

9 CFR Part 93

Animal diseases, Imports, Livestock, Poultry and poultry products, Quarantine, Reporting and recordkeeping requirements.

9 CFR Part 94

Animal diseases, Imports, Livestock, Meat and meat products, Milk, Poultry and poultry products, Reporting and recordkeeping requirements.

9 CFR Part 98

Animal diseases, Imports.

Accordingly, we propose to amend 9 CFR parts 93, 94, and 98 as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. In § 93.500, the definition of APHIS-defined EU CSF region is removed and a definition of APHIS-defined European CSF region is added, in alphabetical order, to read as follows:

§ 93.500 Definitions.

* * * * *

APHIS-defined European CSF region. The regions of Austria, Belgium, the Czech Republic, Denmark, Finland, France, Germany, Greece, Italy, Latvia, Liechtenstein, Lithuania, Luxembourg, the Netherlands, Poland, Portugal, Republic of Ireland, Spain, Sweden, Switzerland, and the United Kingdom (England, Scotland, Wales, the Isle of Man, and Northern Ireland).

* * * * *

§ 93.505 [Amended]

3. In § 93.505, paragraph (a), the words “APHIS-defined EU CSF region” are removed and the words “APHIS-defined European CSF region” are added in their place.

PART 94—RINDERPEST, FOOT-AND-MOUTH DISEASE, EXOTIC NEWCASTLE DISEASE, AFRICAN SWINE FEVER, CLASSICAL SWINE FEVER, SWINE VESICULAR DISEASE, AND BOVINE SPONGIFORM ENCEPHALOPATHY: PROHIBITED AND RESTRICTED IMPORTATIONS

4. The authority citation for part 94 continues to read as follows:

Authority: 7 U.S.C. 450, 7701-7772, 7781-7786, and 8301-8317; 21 U.S.C. 136 and 136a; 31 U.S.C. 9701; 7 CFR 2.22, 2.80, and 371.4.

5. In § 94.0, the definition of APHIS-defined EU CSF region is removed and a definition of APHIS-defined European CSF region is added, in alphabetical order, to read as follows:

§ 94.0 Definitions.

* * * * *

APHIS-defined European CSF region. The regions of Austria, Belgium, the Czech Republic, Denmark, Finland, France, Germany, Greece, Italy, Latvia, Liechtenstein, Lithuania, Luxembourg, the Netherlands, Poland, Portugal, Republic of Ireland, Spain, Sweden, Switzerland, and the United Kingdom (England, Scotland, Wales, the Isle of Man, and Northern Ireland).

* * * * *

§ 94.1 [Amended]

6. In § 94.1, paragraph (a)(2) is amended by adding the word “Liechtenstein,” immediately after the word “Latvia,”.

§ 94.9 [Amended]

7. In § 94.9, paragraphs (b) and (c) introductory text, the words “APHIS-defined EU CSF region” are removed each time they appear and the words “APHIS-defined European CSF region” are added in their place.

§ 94.10 [Amended]

8. In § 94.10, paragraphs (b) and (c), the words “APHIS-defined EU CSF region” are removed each time they appear and the words “APHIS-defined European CSF region” are added in their place.

§ 94.11 [Amended]

9. In § 94.11, paragraph (a) is amended by adding the word “Liechtenstein,” immediately after the word “Latvia,”.

§ 94.12 [Amended]

10. In § 94.12, paragraph (a) is amended by adding the word “Liechtenstein,” immediately after the word “Latvia,”.

§ 94.13 [Amended]

11. In § 94.13, in the introductory text of the section, the first sentence is amended by adding the word “Liechtenstein,” immediately after the word “Latvia,”.

§ 94.24 [Amended]

12. Section 94.24 is amended as follows:

a. In the section heading, by removing the words “APHIS-defined EU CSF region” and adding the words “APHIS-defined European CSF region” in their place.

b. In paragraph (a) introductory text and paragraph (a)(1)(i), by removing the words “APHIS-defined EU CSF region” each time they appear and adding the words “APHIS-defined European CSF region” in their place.

c. In paragraph (a)(1)(ii) and (a)(1)(iii), by removing the words “APHIS-defined EU CSF region” each time they appear and adding the words “APHIS-defined European CSF region” in their place, and by removing the words “of the Member State” each time they appear.

d. In paragraph (a)(5), by removing the words “of the APHIS-defined EU CSF region Member State”.

e. In paragraph (b) introductory text and paragraph (b)(2)(i), by removing the words “APHIS-defined EU CSF region” each time they appear and adding the words “APHIS-defined European CSF region” in their place.

f. In paragraph (b)(2)(ii) and (b)(2)(iii), by removing the words “the APHIS-defined EU CSF region” each time they appear and adding the words “the APHIS-defined European CSF region” in their place, and by removing the words “of the Member State” each time they appear.

g. In paragraph (b)(6), by removing the words “of the APHIS-defined EU CSF region Member State”.

PART 98—IMPORTATION OF CERTAIN ANIMAL EMBRYOS AND ANIMAL SEMEN

13. The authority citation for part 98 continues to read as follows:

Authority: 7 U.S.C. 1622 and 8301-8317; 21 U.S.C. 136 and 136a; 31 U.S.C. 9701; 7 CFR 2.22, 2.80, and 371.4.

14. In § 98.30, the definition of APHIS-defined EU CSF region is removed and a definition of APHIS-defined European CSF region is added, in alphabetical order, to read as follows:

§ 98.30 Definitions.

* * * * *

APHIS-defined European CSF region. The regions of Austria, Belgium, the Czech Republic, Denmark, Finland, France, Germany, Greece, Italy, Latvia, Liechtenstein, Lithuania, Luxembourg, the Netherlands, Poland, Portugal, Republic of Ireland, Spain, Sweden, Switzerland, and the United Kingdom (England, Scotland, Wales, the Isle of Man, and Northern Ireland).

* * * * *

§ 98.38 [Amended]

15. Section 98.38 is amended as follows:

a. In the section heading, by removing the words “APHIS-defined EU CSF region” and adding the words “APHIS-defined European CSF region” in their place.

b. In the introductory text, by removing the words “APHIS-defined EU CSF region” and adding the words “APHIS-defined European CSF region” in their place.

c. In paragraph (a), by removing the words “of the APHIS-defined EU CSF region Member State”.

d. In paragraph (b)(1), by removing the words “APHIS-defined EU CSF region” and adding the words “APHIS-defined European CSF region” in their place.

e. In paragraphs (b)(2) and (b)(3), by removing the words “APHIS-defined EU CSF region” each time they appear and adding the words “APHIS-defined European CSF region” in their place, and by removing the words “of the Member State” each time they appear.

f. In paragraph (i), by removing the words “of the APHIS-defined EU CSF region Member State”.

Done in Washington, DC, this 13th day of May 2011.
Kevin Shea,
Acting Administrator, Animal and Plant Health Inspection Service.

[FR Doc. 2011-12316 Filed 5-18-11; 8:45 am]

BILLING CODE 3410-34-P